INTERNATIONAL TRADE COMMISSION

[Investigation No. 332-539]

U.S.-Korea Free Trade Agreement: Effects on U.S. Small and Medium-Sized Enterprises; Institution of Investigation and Scheduling of Hearing

AGENCY: United States International Trade Commission.

ACTION: Institution of investigation and scheduling of public hearing.

SUMMARY: Following receipt of a request dated January 29, 2013 (received on January 30, 2013) from the U.S. Trade Representative (USTR) under section 332(g) of the Tariff Act of 1930 (19 U.S.C. 1332(g)), the U.S. International Trade Commission (Commission) instituted investigation No. 332-539, U.S.-Korea Free Trade Agreement: Effects on U.S. Small and Medium-Sized Enterprises.

DATES:

February 27, 2013: Deadline for filing requests to appear at the public hearing.

March 1, 2013: Deadline for filing pre-hearing briefs and statements.

March 14, 2013: Public hearing.

March 20, 2013: Deadline for filing post-hearing briefs and statements.

March 25, 2013: Deadline for filing all other written submissions.

May 1, 2013: Transmittal of Commission report to the USTR.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at https://edis.usitc.gov/edis3-internal/app.

FOR FURTHER INFORMATION CONTACT: Project Leader Brian Allen (202-205-3034 or brian.allen@usitc.gov) or Deputy Project Leader Kyle Johnson (202-205-3229 or kyle.johnson@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Web site (http://www.usitc.gov). Persons with mobility impairments who will need special assistance in gaining access to the Commission should contact the Office of the Secretary at 202-205-2000.

Background: As requested, the Commission will conduct an investigation and prepare a report containing information on the impact of the U.S.-Korea Free Trade Agreement on U.S. small and medium-sized enterprises (SMEs) since entry into force of the agreement on March 15, 2012. The Commission, to the extent practicable, will provide a report discussing the effects of the agreement on the production, distribution, and export strategy of U.S. SMEs, as identified by those SMEs, and describing how U.S. SMEs have benefited from specific provisions of the agreement, as well as challenges that U.S. SMEs may have faced in exporting to Korea. Such provisions may include but are not limited to those related to trade in goods and services or to intellectual property. The report will be based on available information, including information furnished by SMEs and interested parties. The U.S. SME sectors examined may include some or all of the business sectors listed in the three prior Commission reports on SMEs released in 2010, or other appropriate business sectors as information is available.

Public Hearing: A public hearing in connection with this investigation will be held at the U.S. International Trade Commission Building, 500 E Street, SW., Washington, DC, beginning at 9:30 a.m. on March 14, 2013. Requests to appear at the public hearing should be filed with the Secretary, no later than 5:15 p.m., February 27, 2013, in accordance with the requirements in the “Submissions” section below. All pre-hearing briefs and statements should be filed not later than 5:15 p.m., March 1, 2013; and all post-hearing briefs and statements should be filed not later than 5:15 p.m., March 20, 2013. In the event that, as of the close of business on February 27, 2013, no witnesses are scheduled to appear at the hearing, the hearing will be canceled. Any person interested in attending the hearing as an observer or nonparticipant should contact the Office of the Secretary at 202-205-2000 after February 27, 2013, for information concerning whether the hearing will be held.

Written Submissions: In lieu of or in addition to participating in the hearing, interested parties are invited to file written submissions concerning this investigation. All written submissions should be addressed to the Secretary, and should be received not later than 5:15 p.m., March 25, 2013. All written submissions must conform with the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraph for further information regarding confidential business information). Persons with questions regarding electronic filing should contact the Secretary (202-205-2000).

Any submissions that contain confidential business information (CBI) must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties. In its request letter, the USTR stated that it intends to make the Commission's report available to the public in its entirety, and asked that the Commission not include any confidential business information or national security classified information in the report that the Commission sends to the USTR. Any confidential business information received by the Commission in this investigation and used in preparing this report will not be published in a manner that would reveal the operations of the firm supplying the information.

By order of the Commission.
Issued: February 7, 2013.
Lisa R. Barton,
Acting Secretary to the Commission.

[FR Doc. 2013-03169 Filed 2-11-13; 8:45 am]

BILLING CODE 7020-02-P